DEPARTMENT OF COMMERCE

National Oceanic and Atmospheric Administration

RIN 0648-XD817

Gulf of Mexico Fishery Management Council (Council); Public Meeting

AGENCY: National Marine Fisheries Service (NMFS), National Oceanic and Atmospheric Administration (NOAA), Commerce.

ACTION: Notice of public meetings.

SUMMARY: The Gulf of Mexico Fishery Management Council (Council) will hold meetings of the: Administrative Policy and Budget Committees, Law Enforcement, Data Collection, Gulf SEDAR, Sustainable Fisheries/Ecosystem, Mackerel, Spiny Lobster, Reef Fish and Shrimp Management Committees; in conjunction with a meeting of the Full Council. The Council will also hold a formal public comment session.

DATES: The Council meetings will be held from 8:30 a.m. on Monday, March 30 until 3:45 p.m. on Thursday, April 2, 2015.

ADDRESSES: Meeting address: The meetings will be held at the Golden Nugget Hotel, located at 151 Beach Boulevard, Biloxi, MS 39530.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org

SUPPLEMENTARY INFORMATION: The items of discussion for each individual management committee agenda are as follows:

Administrative Policy/Budget Administrative Committees Agenda, Monday, March 30, 2015, 8:30 a.m.-10 a.m.

• Review Draft Revisions to SOPPs

• Review 2015 Budget

Law Enforcement Management Committee Agenda, Monday, March 30, 2015, 10 a.m.-10:45 a.m.

• Law Enforcement Advisory Panel (LEAP) Report

Data Collection Management Committee Agenda, Monday, March 30, 2015, 10:45 a.m.-12 noon

• Scoping/Options Paper for Electronic Charter Boat Reporting Recommendations

Gulf SEDAR Management Committee Agenda, Monday, March 30, 2015, 1:30 p.m.-2 p.m.

• SEDAR Schedule Review

Sustainable Fisheries/Ecosystem Management Committee Agenda, Monday, March 30, 2015, 2 p.m.-3:30 p.m.

• NOAA Climate Change Strategy

• National Standard 1 Proposed Revisions

• Final Action on Decal Requirement for Charter Vessels and Headboats

• Ecosystem Scientific and Statistical Committee (SSC) Report

Mackerel Management Committee Agenda, Monday, March 30, 2015, 3:30 p.m.-4:30 p.m.

• Options Paper for Mackerel Gillnet Framework Action Spiny Lobster Management Committee Agenda, Monday, March 30, 2015, 4:30 p.m.-5 p.m.

• Lobster SSC recommendations

- Recess -

Reef Fish Management Committee Agenda, Tuesday, March 31, 2015, 8:30 a.m.-11:30 a.m. and 1 p.m. until 5 p.m.

• Recreational Red Snapper Season Projections

• Presentation on the Headboat Collaborative Program

• Options Paper for Gag Annual Catch Limit (ACL), Annual Catch Target (ACT) and Seasons

• Final Action on Greater Amberjack Framework Action

• Scoping Summaries on Amendment 36—Red Snapper Individual Fishing Quota (IFQ) Modifications

• Draft Amendment 28—Red Snapper Allocation

• Draft Amendment 39—Regional Management of Recreational Red Snapper

• Joint South Florida Management Options

• Hogfish Overfishing Limits (OFL) and Acceptable Biological Catch (ABC)

• Charge to the Reef Fish Headboat Advisory Panel (AP)

• Other Reef Fish (SSC) Report

- Recess -

Shrimp Management Committee Agenda, Wednesday, April 1, 2015, 8:30 a.m.-10 a.m.

• Biological Review of the Texas Closure

• Summary of Shrimp Advisory Panel Meeting

• Report on Penaeid Shrimp Maximum Sustainable Yield Acceptable Biological Catch Rule Workshop

• Update on Shrimp Amendment 15

• Scoping document for Shrimp Amendment 17

• Shrimp SSC Summary Report

Council Session Agenda, Wednesday, April 1, 2015, 10:15 a.m.-5 p.m.

10:15 a.m.-10:25 a.m.: Call to Order and Introductions, Adoption of Agenda and Approval of Minutes

10:25 a.m.-11:30 a.m.: (CLOSED SESSION) Advisory Panel Appointments

1 p.m.-3 p.m.: The Council will receive presentations on Mandatory Safety Exams for All Commercial Fishing Vessels, Notice of Intent for a Draft EIS for Expansion of Flower Garden Banks National Marine Sanctuary, and Draft Environmental Assessment for Amendment 6 to the Highly Migratory Species Fishery Management Plan (FMP).

3 p.m.-5 p.m.: The Council will receive public testimony on Final Action on Greater Amberjack Framework Action, Final Action on Shrimp Amendment 15 and Final Action on Eliminating Charter Vessel/Headboat Decal Requirement; open public comment period regarding other fishery issues or concerns.

- Recess -

Council Session Agenda, Thursday, April 2, 2015, 8:30 a.m.-3:45 p.m.

8:30 a.m.-9 a.m.: The Council will review and vote on Exempted Fishing Permits (EFPs), if any.

9 a.m.-12 noon: The Council will receive committee reports from the Administrative Policy/Budget, Law Enforcement, Data Collection, Gulf SEDAR, Sustainable Fisheries/Ecosystem, Mackerel and Shrimp Management Committees.

1:30 p.m.-3:15 p.m.: The Council will continue to receive committee reports from the Spiny Lobster and Reef Fish Management Committees.

3:15 p.m.-3:45 p.m.: The Council will review Other Business.

- Adjourn -

The Agenda is subject to change, and the latest version will be posted on the Council's file server, which can be accessed by going to the Council Web site at http://www.gulfcouncil.org and clicking on FTP Server under Quick Links. For meeting materials see folder “Briefing Books/Briefing Book 2015-03” on Gulf Council file server. The username and password are both “gulfguest”. The meetings will be Webcast over the internet. A link to the Webcast will be available on the Council's Web site, http://www.gulfcouncil.org.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: March 6, 2015.
Tracey L. Thompson,
Acting Deputy Director, Office of Sustainable Fisheries, National Marine Fisheries Service.

[FR Doc. 2015-05588 Filed 3-11-15; 8:45 am]

BILLING CODE 3510-22-P